DEPARTMENT OF COMMERCE

National Oceanic and Atmospheric Administration

50 CFR Part 622

[Docket No. 130312235-3658-02]

RIN 0648-XD117

Fisheries of the Caribbean, Gulf of Mexico, and South Atlantic; Snapper-Grouper Resources of the South Atlantic; Trip Limit Reduction

AGENCY: National Marine Fisheries Service (NMFS), National Oceanic and Atmospheric Administration (NOAA), Commerce.

ACTION: Temporary rule; trip limit reduction.

SUMMARY: NMFS reduces the commercial trip limit for vermilion snapper in or from the exclusive economic zone (EEZ) of the South Atlantic to 500 lb (227 kg), gutted weight. This trip limit reduction is necessary to protect the South Atlantic vermilion snapper resource.

DATES: This rule is effective 12:01 a.m., local time, March 11, 2014, until 12:01 a.m., local time, July 1, 2014.

FOR FURTHER INFORMATION CONTACT: Catherine Hayslip, telephone: 727-824-5305, email: Catherine.Hayslip@noaa.gov.

SUPPLEMENTARY INFORMATION: The snapper-grouper fishery includes vermilion snapper in the South Atlantic and is managed under the Fishery Management Plan for the Snapper-Grouper Fishery of the South Atlantic Region (FMP). The FMP was prepared by the South Atlantic Fishery Management Council and is implemented under the authority of the Magnuson-Stevens Fishery Conservation and Management Act (Magnuson-Stevens Act) by regulations at 50 CFR part 622.

The commercial ACL (commercial quota) for vermilion snapper in the South Atlantic is divided into two 6-month time periods, and is 401,874 lb (182,287 kg), gutted weight (446,080 lb (202,338 kg), round weight), for the January 1 through June 30, 2014, fishing season, and 401,874 lb (182,287 kg), gutted weight (446,080 lb (202,338 kg), round weight), for the July 1 through December 31, 2014, fishing season, as specified in 50 CFR 622.190(a)(4)(i)(B) and (ii)(B), respectively.

Under 50 CFR 622.191(a)(6)(ii), NMFS is required to reduce the commercial trip limit for vermilion snapper from 1,000 lb (454 kg), gutted weight (1,110 lb (503 kg), round weight), to 500 lb (227 kg), gutted weight (555 lb (252 kg), round weight), when 75 percent of the fishing season quota is reached or projected to be reached, by filing a notification to that effect with the Office of the Federal Register, as implemented by the final rule for Regulatory Amendment 18 (78 FR 47574, August 6, 2013). Based on current statistics, NMFS has determined that 75 percent of the available commercial quota for the January 1 through June 30, 2014, fishing season, for vermilion snapper will be reached on or before March 11, 2014. Accordingly, NMFS is reducing the commercial trip limit for vermilion snapper to 500 lb (227 kg), gutted weight (555 lb (252 kg), round weight), in or from the South Atlantic EEZ at 12:01 a.m., local time, on March 11, 2014. This 500-lb (227-kg), gutted weight, trip limit will remain in effect until July 1, 2014, or until the quota is reached and the commercial sector closes, whichever occurs first.

Classification

The Regional Administrator, Southeast Region, NMFS, has determined this temporary rule is necessary for the conservation and management of South Atlantic vermilion snapper and is consistent with the Magnuson-Stevens Act, the FMP, and other applicable laws.

This action is taken under 50 CFR 622.191(a)(6) and is exempt from review under Executive Order 12866.

These measures are exempt from the procedures of the Regulatory Flexibility Act because the temporary rule is issued without opportunity for prior notice and comment.

This action responds to the best available scientific information recently obtained from the fishery. Pursuant to 5 U.S.C. 553(b)(B), the Assistant Administrator for Fisheries, NOAA, (AA), finds good cause to waive the requirements to provide prior notice and the opportunity for public comment on this temporary rule. Such procedures are unnecessary because the rule itself has already been subject to notice and comment, and all that remains is to notify the public of the trip limit reduction.

Allowing prior notice and opportunity for public comment is contrary to the public interest because of the need to immediately implement this action to protect vermilion snapper because the capacity of the fishing fleet allows for rapid harvest of the ACL (quota). Prior notice and opportunity for public comment for this trip limit reduction would require time and would result in the trip limit reduction not being implemented, and increase the probability that the commercial ACL (commercial quota) will be exceeded.

For the aforementioned reasons, the AA also finds good cause to waive the 30-day delay in the effectiveness of this action under 5 U.S.C. 553(d)(3).

Authority: 16 U.S.C. 1801 et seq.

Dated: March 4, 2014.
Emily H. Menashes,
Acting Director, Office of Sustainable Fisheries, National Marine Fisheries Service.

[FR Doc. 2014-04991 Filed 3-4-14; 4:15 pm]

BILLING CODE 3510-22-P